DEPARTMENT OF JUSTICE

[AAG/A Order No. 290-2002]

Privacy Act of 1974; System of Records

Pursuant to the provisions of the Privacy Act of 1974 (5 U.S.C. 552a), the Immigration and Naturalization Service (INS), Department of Justice (DOJ), proposes to remove an existing system of records, entitled Secondary Verification Automated Log (SVAL), last published October 10, 1995 (60 FR 52699) and replace it with a new system of records for which no public notice consistent with the provisions of 5 U.S.C. 552a(e)(4) has been published. This new system of records is entitled:

The Verification Information System (VIS), JUSTICE/INS-035.

Therefore, on the effective date of the new system, named above, the SVAL system notice will be removed from the DOJ inventory of Privacy Act systems of records.

In accordance with 5 U.S.C. 552a(e)(4) and (11), the public is given a 30-day period in which to comment on the new routine uses. The Office of Management and Budget (OMB), which has oversight responsibility under the Act, requires a 40-day period in which to conclude its review of the system. Therefore, please submit any comments by November 18, 2002. The public, OMB, and the Congress are invited to submit any comments to Mary Cahill, Management Analyst, Management and Planning Staff, Justice Management Division, Department of Justice, Washington, DC 20530 (Room 1400, National Place Building).

In accordance with 5 U.S.C. 552a(r), the Department has provided a report to OMB and the Congress.

Dated: October 4, 2002.
Robert F. Diegelman,
Acting Assistant Attorney General for Administration.

JUSTICE/INS-035

SYSTEM NAME:

Verification Information System (VIS).

SYSTEM LOCATION:

Headquarters, Regional, District, and suboffices of the Immigration and Naturalization Service (INS) in the United States—addresses can be located on the INS webpage: www.INS.gov and as detailed in JUSTICE/INS-999, last published in the Federal Register on April 13, 1999 (64 FR 18052).

CATEGORIES OF INDIVIDUALS COVERED BY THE SYSTEM:

Immigrants and naturalized U.S. citizens applying for federal, state, and local public benefits for whom INS receives a Form G-845, Document Verification Request, or an automated verification request submitted by federal, state, and local public benefit issuing agencies; and immigrant employees of employers who participate in one of INS' Employment Verification Pilot Programs.

AUTHORITY FOR MAINTENANCE OF RECORDS:

8 U.S.C. 1255a, 8 U.S.C. 1324a, 8 U.S.C. 1360 and 42 U.S.C. 1320b-7.

PURPOSE(S):

This system of records is used to provide immigration status information to federal, state, and local government agencies for immigrants and naturalized U.S. citizens applying for federal, state, and local public benefits. It is also used to provide employment authorization information to employers participating in an employment verification pilot program. The VIS expands the Systematic Alien Verification for Entitlements (SAVE) Program's current electronic primary verification process which utilizes the Alien Status Verification Index (ASVI) database (JUSTICE/INS-009, last published September 7, 2001, 66 FR 46815) to include two additional systems: (1) The Status Verification System (SVS); and (2) the Management Reporting System (MRS). External users access ASVI to electronically verify immigration status and employment authorization. In the instances when the verification cannot be confirmed by ASVI, an electronic transmission of the verification request is sent by ASVI to SVS to an INS field office for processing record manual agency verification requests (Forms G-845) submitted to INS field offices when the agency does not have access to an automated secondary verification method or electronic access is not feasible. In cases where the employer verification process requires the immigrant employee to contact INS, SVS records these transactions. The SVS also includes a workload traffic management capability that moves and records the location of verification requests transmitted by external users to INS field offices servicewide. The SVS also captures status and employment verification statistics and transmits these statistics electronically to MRS. The MRS is an automated system used by INS management to produce statistical reports and information on immigration status and employment authorization verification requests.

The purpose of the system is to meet both current and future immigration status and employment authorization verification needs. The VIS provides the opportunity to reduce the submission of the paper Forms G-845 and reduces the amount of time necessary to provide immigration status and employment authorization information. The VIS will be used by current participants of the SAVE Program, the Employment Verification Pilots, and future customers. The VIS extends the automation of the verification process from the initial verification through the ASVI database through any verification that may be required with INS field offices and records and captures statistical information associated with the verification process.

CATEGORIES OF RECORDS IN THE SYSTEM:

Some agency users submit requests to INS on Form G-845 for agency manual verification. These records contain the following data: Alien Registration Number (A-Number), alien name, nationality, date of birth, and name, address, telephone number, and contact person of the submitting agency. INS will complete Section B of Form G-845 with immigration status information and return it to the benefit issuing agency. However, identical data, together with a unique verification number and Form G-845 disposition data, will be recorded and maintained by INS in the VIS database as a record of manual verification made by the benefit issuing agency.

Agency automated users submit their verification requests to INS electronically and these records contain the following data: A-Number, alien name, date of birth, INS document type, INS document expiration date, name of the submitting agency and immigration status information, as well as a unique verification number and disposition data, and will be maintained by INS in the VIS database as a record of verification made by the benefit issuing agency.

Employers also submit their verification requests to INS electronically and these records contain the following data: A-Number, alien name, date of birth, social security number, date of hire, claimed citizenship status, INS document type, INS document expiration date, name of the submitting employer and employment authorization information, as well as a unique verification number and disposition data, and will be maintained by INS in the VIS database as a record of verification made by the employer.

ROUTINE USES OF RECORDS MAINTAINED IN THE SYSTEM, INCLUDING CATEGORIES OF USERS AND THE PURPOSES OF SUCH USES:

Relevant information contained in this system of records may be disclosed to the following:

A. To a federal, state, tribal, or local government agency, or to a contractor acting on its behalf, to the extent that such disclosure is necessary to enable these agencies to make decisions concerning: (1) Determination of eligibility for a federal, state, or local public benefit; or (2) issuance of a license or grant. Such access may be via a system in which the recipient performs its own automated verification of the requisite information for deciding any of the above. Records may also be disclosed to these agencies, or contractors operating on their behalf, for use in computer matching programs for the purpose of verifying an applicant's immigration status for the purpose of making benefit eligibility determinations.

B. To employers participating in Employment Verification Pilot Programs for verifying the employment authorization of immigrant employees to work in the United States. Employers are assigned secure access codes, user IDs, and passwords, and have access through personal computers with a modem.

C. To other federal, state, tribal, and local government agencies seeking to verify or determine the citizenship or immigration status of any individual within the jurisdiction of the INS as authorized or required by law. The INS will assign access codes and passwords for remote access through secure methods to agencies to perform their own automated verification.

D. To contractors, grantees, experts, consultants, students, and others performing or working on a contract, service, grant, cooperative agreement, or other assignment for the Federal Government, when necessary to accomplish an agency function related to this system of records.

E. To the news media and the public pursuant to 28 CFR 50.2 unless it is determined that release of the specific information in the context of a particular case would constitute an unwarranted invasion of personal privacy.

F. To a Member of Congress or staff acting upon the Member's behalf when the Member or staff requests the information on behalf of and at the request of the individual who is the subject of the record.

G. To the General Services Administration and the National Archives and Records Administration in records management inspections conducted under the authority of 44 U.S.C. 2904 and 2906.

H. Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

Data is stored on magnetic disk and tape.

RETRIEVABILITY:

Agency records are retrieved by verification number, A-Number, or name of the applicant, or by the submitting agency name. Employer records are retrieved by verification number, A-Number, or Social Security Number of the employee, or by the submitting company name.

SAFEGUARDS:

Records are safeguarded in accordance with the Department of Justice Orders governing security of automated records and Privacy Act systems of records. Access is controlled through user identification and discrete password functions to assure that accessibility is limited.

RETENTION AND DISPOSAL:

Completed verifications are archived to a storage disk monthly and destroyed five (5) years after the last month contained on the disk.

SYSTEM MANAGER(S) AND ADDRESS:

The Servicewide system manager is the Assistant Commissioner, Office of Records, Immigration and Naturalization Service, 425 I Street NW., Fourth Floor, Union Labor Life Building, Washington, DC 20536.

NOTIFICATION PROCEDURES:

Address your inquiries about the system in writing to the system manager identified above.

RECORD ACCESS PROCEDURES:

In all cases, requests for access to a record in this system shall be in writing. If a request for access is made by mail, the envelope and letter should be clearly marked “Privacy Act Request.” The requester shall include the name, date and place of birth of the person whose record is sought and, if known, the A-Number. The requester shall also provide a return address for transmitting the information.

CONTESTING RECORDS PROCEDURES:

Any individual desiring to contest or amend information maintained in the system should direct his or her request to the System Manager or the INS office that completed the verification request. The request should clearly state what information is being contested, the reasons for contesting it, and the proposed amendment to the information.

RECORD SOURCE CATEGORIES:

Form G-845, Request for Document Verification (furnished by benefit issuing agencies) and INS immigration status records.

SYSTEMS EXEMPTED FROM CERTAIN PROVISIONS OF THE ACT:

None.

[FR Doc. 02-26261 Filed 10-16-02; 8:45 am]

BILLING CODE 4410-10-P